DEPARTMENT OF HEALTH AND HUMAN SERVICES

Centers for Disease Control and Prevention

[30Day-18-18KS]

Agency Forms Undergoing Paperwork Reduction Act Review

In accordance with the Paperwork Reduction Act of 1995, the Centers for Disease Control and Prevention (CDC) has submitted the information collection request titled “Zika Reproductive Health and Emergency Response Call-Back Survey, 2018” to the Office of Management and Budget (OMB) for review and approval. CDC previously published a “Proposed Data Collection Submitted for Public Comment and Recommendations” notice on April 27, 2017 to obtain comments from the public and affected agencies. CDC received one comment, which was unrelated to the proposed information collection. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Zika Reproductive Health and Emergency Response Call-Back Survey, 2018—New—National Center for Chronic Disease Prevention and Health Promotion (NCCDPHP), Centers for Disease Control and Prevention (CDC).

Background and Brief Description

In May 2015, the World Health Organization reported the first local mosquito-borne transmission of Zika virus in the Western Hemisphere. Through the course of the outbreak, local transmission was identified in at least 50 countries or territories in the Americas; within the United States, widespread mosquito born transmission was documented in the territories of Puerto Rico and the U.S. Virgin Islands, with localized transmission in Florida and Texas. In addition, in the continental United States, there has been a large number of travel-related cases with infection occurring through mosquito born and sexual transmission.

In response to the Zika virus outbreak, and evidence that Zika virus infection during pregnancy is a cause of microcephaly and other adverse pregnancy and infant outcomes, CDC's Emergency Operations Center was activated to respond to the Zika virus outbreak from January 22, 2016-September 29, 2017. Given the adverse pregnancy and birth outcomes associated with Zika virus infection during pregnancy, through this response CDC developed specific recommendations for preconception care and counseling. These recommendations included discussing travel plans with women and couples, screening them for possible exposure to Zika virus, and providing counseling on behaviors to prevent sexual and mosquito born transmission of Zika and Zika affected pregnancies.

As part of its assessment of emergency response efforts, CDC has surveyed women of reproductive age (18-49 years) in Puerto Rico, the U.S. territory with highest number of reported Zika virus cases and widespread local transmission. However, no information is available for other U.S. states and territories, including those with more localized transmission or a large number of travel related cases. Given the ongoing risk for Zika transmission in parts of the Americas and other areas of the world, there is a continuing need to screen women for potential exposure, particularly related to travel, which may put them at risk for additional infectious diseases that affect pregnancy.

While the Zika virus outbreak created the need to mount public health efforts specifically targeted to women of reproductive age, other natural disasters, such as the recent hurricanes in the Gulf Coast and Caribbean, also have been associated with adverse pregnancy outcomes and a wide range of needs that are unique to women and children. The recent hurricanes have thus highlighted the need for states to develop response plans specifically targeted to women of reproductive age (18-49 years) and for a wider range of public health emergencies. In response to current state needs to address preparedness, including reproductive health preparedness related to weather emergencies, CDC has adjusted its information collection instrument to address these circumstances.

The objectives of this information collection will be to provide states with the information they need to assess whether women in this age group: (1) Are being screened for potential travel related exposures and are they knowledgeable about recommendations for pregnancy timing in regards to Zika exposure; (2) are prepared for natural disasters and other types of public health emergencies including addressing their reproductive health needs in these circumstances. The jurisdictions included have all had widespread local transmission, are at high risk for local transmission, and/or have had travel-related cases. Additionally, many of the same jurisdictions have been affected by the recent hurricanes along the Gulf Coast and the Caribbean. There is no cost to respondents other than the time to participate. The total estimated burden hours are 2,030.

Estimated Annualized Burden Hours
Type of respondents | Form name | Number of respondents | Average burden per response (in hours)
Women aged 18-49 years who completed the main BRFSS survey in:
Alabama | Recruitment text | 1976 | 1/60
Arizona | Recruitment text | 2058 | 1/60
District of Columbia | Recruitment text | 2466 | 1/60
Florida | Recruitment text | 1903 | 1/60
Georgia | Recruitment text | 1638 | 1/60
Louisiana | Recruitment text | 2353 | 1/60
Maryland | Recruitment text | 2669 | 1/60
Mississippi | Recruitment text | 1985 | 1/60
New Mexico | Recruitment text | 2636 | 1/60
New York | Recruitment text | 2052 | 1/60
Texas | Recruitment text | 1864 | 1/60
Guam | Recruitment text | 737 | 1/60
U.S. Virgin Islands | Recruitment text | 737 | 1/60
Women aged 18-49 years who agree to participate in the call-back survey in:
Pilot State | Survey & Consent | 100 | 10/60
Alabama | Survey & Consent | 800 | 10/60
Arizona | Survey & Consent | 800 | 10/60
District of Columbia | Survey & Consent | 800 | 10/60
Florida | Survey & Consent | 800 | 10/60
Georgia | Survey & Consent | 800 | 10/60
Louisiana | Survey & Consent | 800 | 10/60
Maryland | Survey & Consent | 800 | 10/60
Mississippi | Survey & Consent | 800 | 10/60
New Mexico | Survey & Consent | 800 | 10/60
New York | Survey & Consent | 800 | 10/60
Texas | Survey & Consent | 800 | 10/60
Guam | Survey & Consent | 400 | 10/60
U.S. Virgin Islands | Survey & Consent | 400 | 10/60

Leroy A. Richardson,
Chief, Information Collection Review Office, Office of Scientific Integrity, Office of the Associate Director for Science, Office of the Director, Centers for Disease Control and Prevention.

[FR Doc. 2018-01583 Filed 1-26-18; 8:45 am]

BILLING CODE 4163-18-P